DEPARTMENT OF ENERGY

Federal Energy Regulatory Commission

Combined Notice of Filings

Take notice that the Commission has received the following Natural Gas Pipeline Rate and Refund Report filings:

Docket Numbers: RP19-1469-002.

Applicants: DTE Midstream Appalachia, LLC.

Description: Compliance filing Compliance Filing to November 26 Order to be effective 8/1/2019.

Filed Date: 12/11/19.

Accession Number: 20191211-5143.

Comments Due: 5 p.m. ET 12/23/19.

Docket Numbers: RP20-256-001.

Applicants: Tennessee Gas Pipeline Company, L.L.C.

Description: Tariff Amendment: Volume No. 2—SJR SP100754 Neg-Non Conf Amend Exhibit A-4.17.3 to be effective 12/1/2019.

Filed Date: 12/11/19.

Accession Number: 20191211-5079.

Comments Due: 5 p.m. ET 12/23/19.

Docket Numbers: RP20-322-000.

Applicants: Texas Eastern Transmission, LP.

Description: § 4(d) Rate Filing: TETLP Sync-Up Filing—Stratton Ridge (CP17-56) Tariff Records to be effective 12/24/2019.

Filed Date: 12/11/19.

Accession Number: 20191211-5012.

Comments Due: 5 p.m. ET 12/23/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 12, 2019.
Nathaniel J. Davis, Sr.,
Deputy Secretary.

[FR Doc. 2019-27227 Filed 12-17-19; 8:45 am]

BILLING CODE 6717-01-P